ENVIRONMENTAL PROTECTION AGENCY

40 CFR Part 723

[EPA-HQ-OPPT-2002-0051; FRL-8069-4]

RIN 2070-AD58

Premanufacture Notification Exemption for Polymers; Amendment of Polymer Exemption Rule to Exclude Certain Perfluorinated Polymers; Reopening of Comment Period

AGENCY: Environmental Protection Agency (EPA).

ACTION: Proposed rule; reopening of comment period.

SUMMARY: This document reopens the public comment period originally established for the proposed rule issued in the Federal Register on March 7, 2006 (71 FR 11484) (FRL-7735-5). In that document, EPA proposed to amend the polymer exemption rule which provides an exemption from the premanufacture notification (PMN) requirements of the Toxic Substances Control Act (TSCA), to exclude from eligibility polymers containing as an integral part of their composition, except as impurities, certain perfluoroalkyl moieties consisting of a CF3- or longer chain length.

DATES: Comments must be received on or before July 31, 2006.

ADDRESSES: EPA has established a docket for this action under Docket identification (ID) number EPA-HQ-OPPT-2002-0051. All documents in the docket are listed in the index for the docket. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy form, at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Geraldine Hilton, Chemical Control Divison (7405M), Office of Pollution Prevention and Toxics, Environmental Protection Agency, 1200 Pennsylvania Ave., NW., Washington, DC 20460-0001; telephone number: (202) 564-8986; e-mail address: hilton.geraldine@epa.gov.

SUPPLEMENTARY INFORMATION: This document reopens the public comment period established in the Federal Register issued on March 7, 2006 (71 FR 11484). In that document, EPA sought comments on a proposed rule to exclude certain perfluorinated polymers from the polymer exemption rule. EPA is hereby reopening the comment period, which closed on May 8, 2006, to July 31, 2006. EPA has decided to reopen the comment period in response to several requests that additional time is need to adequately compile information, coordinate views among like-minded stakeholders, and submit meaningful comments.

List of Subjects in 40 CFR Part 723

Environmental protection, Chemicals, Hazardous substances, Reporting and recordkeeping requirements.

Dated: May 18, 2006.
Charles M. Auer,
Director, Office of Pollution Prevention and Toxics.

[FR Doc. E6-8245 Filed 5-26-06; 8:45 am]

BILLING CODE 6560-50-S